DEPARTMENT OF HEALTH AND HUMAN SERVICES

Centers for Disease Control and Prevention

[Program Announcement 01109]

Cooperative Agreement for Surveillance of Child Maltreatment; Notice of Availability of Funds

A. Purpose

The Centers for Disease Control and Prevention (CDC) announces the availability of fiscal year (FY) 2001 funds for a cooperative agreement program for Surveillance of Child Maltreatment (CM). The federal Child Abuse Prevention and Treatment Act (CAPTA), as amended and reauthorized in 1996, provides a minimum set of acts or behaviors that characterize CM.

The purposes of the program are: Part I—Mortality Surveillance—to compare alternative approaches to surveillance for fatal and nonfatal CM on the state level, and Part II—Morbidity Surveillance—to test methods that may be employed for the surveillance of violence at all ages. The first purpose addresses the pressing need for a practical surveillance system for CM that can be implemented at the state level. The second purpose addresses the particular need to use efforts in child maltreatment mortality surveillance as a starting point for a national violent death surveillance system. This program will help determine the utility of various data sources for such a system. This program addresses “Healthy People 2010,” focus area of Injury and Violence Prevention.

B. Eligible Applicants

Assistance will be provided only to the official public health departments of States or their bona fide agents, including the District of Columbia, the Commonwealth of Puerto Rico, the Virgin Islands, the Commonwealth of the Northern Mariana Islands, American Samoa, Guam, the Federated States of Micronesia, the Republic of the Marshall Islands, the Republic of Palau, and federally recognized Indian tribal governments.

Separate applications must be submitted for Part I and Part II. Applications for the Mortality Surveillance (Part I) and the Morbidity Surveillance (Part II) will be evaluated separately. Therefore, a state applying for Part I and Part II may be funded for both, one, or neither.

To be eligible, applicants must provide evidence of the following:

Part I. Mortality Surveillance Eligibility Requirements Evidence of access to records critical for identifying all cases of fatal CM among children ages 0 through 9 during calendar year 2000 and 2001 in the applicant's jurisdiction. Programs must have demonstrated access to records with personal/unique identifiers from 3 of the 4 following data sources:

1. The state's child protective services agency;

2. Child fatality review committees;

3. Medical examiners and/or coroners; and

4. Police/FBI records of homicide and negligent or non-negligent manslaughter.

Part II. Morbidity Surveillance Eligibility Requirements

Evidence of access to sources of records that are critical for case finding for nonfatal CM among children ages 0 through 9 during calendar year 2000 or 2001 in the applicant's jurisdiction. Programs must demonstrate access for surveillance purposes to records with personal/unique identifiers from the state's child protective services and from inpatient hospital records. Additional data sources such as emergency department and Medicaid databases may also be reviewed if desired.

The documentation to fulfill the eligibility requirements for Part I and/or Part II must appear on the first page of the application following the face sheet. Acceptable documentation, at a minimum, includes a letter from the director of the agency delineating what records/data are available for use and by whom, the time frames for the use of the records/data, how the records/data will be used, etc. The documentation must appear on the letterhead of the agency that has the authority to grant access to the data, e.g., if the agency with the authority to grant access to the data is the Department of Family and Children Services (DFACS), then the letter must be submitted on DFACS letterhead.

Applications that fail to submit evidence listed above will be considered non-responsive and will be returned without review.

Note: Title 2 of the United States Code, chapter 26, section 1611 states that an organization described in section 501(c)(4) of the Internal Revenue Code of 1986 that engages in lobbying activities is not eligible to receive Federal funds constituting an award, cooperative agreement, contract, loan, or any other form.

C. Availability of Funds

Approximately $1,200,000 is available in FY 2001 to fund approximately six awards. Applicants may apply for part I. Mortality Surveillance and/or part II. Morbidity Surveillance.

Part I. Mortality Surveillance

Approximately $300,000 is available to fund approximately three awards. The average award for Mortality Surveillance will be $100,000.

Part II. Morbidity Surveillance

Approximately $900,000 is available to fund approximately three awards. The average award for Morbidity Surveillance will be $300,000.

It is expected that the awards will begin on or about September 30, 2001, and will be made for a 12-month budget period within a project period of up to three years. Funding estimates may change.

Continuation awards within an approved project period will be made on the basis of satisfactory progress, as evidenced by required reports, and the availability of funds.

D. Program Requirements

In conducting activities to achieve the purpose of this program, the recipient will be responsible for the activities under 1. Recipient Activities, and CDC will be responsible for the activities listed under 2. CDC Activities.

1. Recipient Activities

Part I. Mortality Surveillance Program

a. Identify cases of fatal CM among children ages 0 through 9 during calendar years 2000 and 2001 in the applicant's jurisdiction. See “Background and Definitions” section for case definition.

b. Identify duplicate records for the same children from all sources.

c. Calculate incidence rates by age group, sex, and race by source and for all sources combined and describe the epidemiology of cases. Contrast the epidemiology of individuals identified based upon the methods employed.

d. Evaluate all data sources used to identify cases of fatal CM among children to include a cost-per-case analysis.

Part II. Morbidity Surveillance Program

a. Conduct case finding for nonfatal CM among children ages 0 through 9 during calendar year 2000 or 2001 in the applicant's jurisdiction. Some approaches that can be used to identify cases include but are not limited to the following:

(1) The State's child protective services agency. Only substantiated cases newly identified during the study year should be included.

(2) Hospital inpatient records that are identified by specific discharge diagnoses for CM, assaults, and undetermined causes. Additional data sources such as emergency department and Medicaid databases may be reviewed if desired.

(3) Hospital inpatient records identified by specific discharge diagnoses of injuries and illnesses suggestive of CM with or without additional discharge diagnoses for CM, assaults, or undetermined injuries. Additional data sources such as emergency department, trauma registries, and Medicaid databases may be also be reviewed if desired.

b. Identify duplicate individuals and calculate the degree of overlap of the sources.

c. Calculate incidence rates by age group, sex, and race by source and for all sources combined and describe the epidemiology of cases. Contrast the epidemiology of individuals identified by different approaches, such as those in “a” above.

d. Evaluate each of the approaches used to identify cases, including a cost-per-case-detected analysis.

2. CDC Activities

Part I. and Part II.

a. Provide technical assistance, if requested, on all aspects of recipient activities, including the epidemiology of CM and design of all phases of CM surveillance;

b. Facilitate communication/coordination among States to improve the efficiency of activities and quality of surveillance data.

c. Provide consultation in refining standardized data collection and reporting systems to monitor surveillance activities.

d. Facilitate collaborative efforts to compile and disseminate program results.

e. Assist in the transfer of information and methods developed in these projects to other surveillance programs.

f. Provide the list of ICD codes, if requested, to be used to collect hospital inpatient data. (Part II only)

E. Application Content

Use the information in the Program Requirements, Other Requirements, and Evaluation Criteria sections to develop the application content. The application will be evaluated on the Evaluation Criteria listed, so it is important to follow them in laying out the program plan. Number each page consecutively and provide a complete Table of Contents. The total number of pages should not exceed 60 pages including the appendix and abstract. No bound booklets, etc. should be attached.

In developing the application, the applicant must also include a two-page, double-spaced abstract. In following the format shown below, the applicant should also provide a detailed description of the first year activities and briefly describe future year objectives and activities.

Format:

1. Face Page

2. Eligibility information

3. Abstract

4. Background describing previous work done in CM by the applicant, if any.

5. Goals

6. Objectives

7. Methods

8. Experience

9. Capacity

10. Project Management and staffing

11. Budget

12. Human Subjects (Part II only)

13. Attachments

F. Submission and Deadline

Submit the original and two copies of PHS 5161-1 (OMB Number 0920-0428. Forms are available at the following Internet address: www.cdc.gov/forminfo.htm, or in the application kit.

On or before August 16, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

Part I. Mortality Surveillance

1. Goals and Objectives (10 points)

a. The extent to which the applicant has included goals which are relevant to the purpose of the proposal and feasible to be accomplished during the project period.

b. The extent to which the objectives are specific, time-phased, and measurable.

c. The extent to which an identified staff person is responsible for achieving each objective.

2. Methodology (20 points)

a. The extent to which clear explanations are provided of appropriate methods addressing the identification and review of specific records, case ascertainment and data collection, sampling methods (if applicable), legal authority for surveillance activities, protection of confidentiality, and data processing and analysis. (See case definition in Addendum 2 Background Section)

b. The extent to which the applicant provides a detailed description of the potential problems and proposed resolutions.

3. Experience (25 points)

a. The extent to which the applicant documents past experience in the surveillance of injuries.

b. The extent to which the applicant documents experience using Child Protective Service (CPS), Child Fatality Review (CFR), Medical Examiner(s) and/or coroners, and/or Police/FBI records of homicide and negligent or non-negligent manslaughter for public health surveillance.

4. Capacity (25 points)

a. The extent to which the applicant provides evidence of CFR data that includes the review of all pediatric deaths (including unintentional injuries, SIDS, and deaths from natural causes) rather than data from violent deaths alone.

5. Staffing (20 points)

a. The extent to which the applicant provides evidence of existing staff to perform activities rather than the need to hire new staff to perform recipient activities.

b. The extent to which the applicant provides evidence of commitment of adequate time to accomplish all tasks.

c. The extent to which the applicant provides evidence of necessary skills and experience among current staff or in the job description of proposed new staff to carry out the objectives for the program.

6. Budget (Not Scored)

a. The extent to which the budget request is clearly explained, adequately justified, reasonable, sufficient, and consistent with the stated objectives and planned activities.

Part II. Morbidity Surveillance

1. Goals and Objectives (5 points)

a. The extent to which the applicant has included goals that are relevant to the purpose of the proposal and can be accomplished during the project period.

b. The extent to which the objectives are specific, time-phased, and measurable.

c. The extent to which an identified staff person is responsible for achieving each objective.

2. Access to Data (20 points)

a. The extent to which the applicant can demonstrate with the latest available statistics that at least 90 percent of hospitalized injuries are E-coded.

b. The extent to which the applicant provides evidence of the legal authority of the health department to assess and review medical records for non-reportable conditions for public health purposes.

3. Methods (25 points)

a. The extent to which the applicant provides a detailed and clear explanation of appropriate methods for identifying and reviewing specific records. (See case definition in Addendum 2 Background Section)

b. The extent to which the applicant provides a detailed description of the potential problems and proposed solutions.

4. Experience (20 points)

a. The extent to which the applicant documents experience in injury surveillance.

b. The extent to which the applicant documents experience in using hospital discharge data for public health surveillance.

5. Capacity (15 points)

a. The extent to which the applicant documents a detailed and clear description of how record linkage will be accomplished.

b. The extent to which the applicant documents the ability to directly access hospital discharge data kept by the health department rather than having to make requests for analyses from an agency outside the health department.

6. Staffing (15 points)

a. The extent to which the applicant provides evidence of the use of existing staff rather than new staff to perform recipient activities.

b. The extent to which the applicant provides evidence of the commitment of adequate time and resources to accomplish all tasks.

c. The extent to which the applicant provides evidence of skills and experience necessary to carry out the objectives of the program among current staff or in the job description of proposed new staff.

7. Budget (Not Scored)

The extent to which the budget request is clearly explained, adequately justified, reasonable, sufficient, and consistent with the stated objectives and planned activities.

8. Human Subjects (Not Scored)

Does the application adequately address the requirements of 45 CFR part 46 for the protection of human subjects?

(Yes or No).

H. Other Requirements

Technical Reporting Requirements

Provide CDC with original plus two copies of:

1. semi-annual progress reports;

2. financial status report, no more than 90 days after the end of the budget period; and

3. final financial and performance reports, no more than 90 days after the end of the project period.

Send all reports to the Grants Management Specialist identified in the “Where to Obtain Additional Information” section of this announcement.

AR-1 Human Subjects Requirements (Part II only)

AR-7 Executive Order 12372 Review

AR-9 Paperwork Reduction Act Requirements

AR-10 Smoke-Free Workplace Requirements

AR-11 Healthy People 2010

AR-12 Lobbying Restrictions

AR-13 Prohibition on Use of CDC Funds for Certain Gun Control Activities

AR-21 Small, minority, and women-owned businesses

AR-22 Research Integrity

I. Authority and Catalog of Federal Domestic Assistance Number

This program is authorized under sections 301(a), 317(k)(2), and 391-394A (42 U.S.C. 241(a), 247b(k)(2), and 280b-280b-3 of the Public Health Service Act as amended. The Catalog of Federal Domestic Assistance number is 93.136.

J. Where to Obtain Additional Information

This and other CDC announcements are available through the CDC homepage on the Internet at: http://www.cdc.gov. Click on “Funding” then “Grants and Cooperative Agreements.”

To receive additional information and to request an application kit, call 1-888-GRANTS4 (1-888 472-6874). You will be asked to leave your name and address and will be instructed to identify the Announcement number of interest.

If you have questions after reviewing the contents of all the documents, business management technical assistance may be obtained from: Angie Nation, Grants Management Specialist, Grants Management Branch, Procurement and Grants Office, Announcement 01109, Centers for Disease Control and Prevention, 2920 Brandywine Road, Room 3000, Atlanta, GA 30341-4146, Telephone number: (770) 488-2719, Email address: aen4@cdc.gov.

For program technical assistance, contact: Joyce McCurdy, Project Officer, National Center for Injury Prevention and Control, Centers for Disease Control and Prevention, 4770 Buford Highway, NE, Mailstop K60, Atlanta, GA 30341, Telephone number: (770) 488-4266, Email address: jmm6@cdc.gov, FAX number: (770) 488-4349.

Dated: June 19, 2001.
John L. Williams,
Director, Procurement and Grants Office, Centers for Disease Control and Prevention (CDC).

[FR Doc. 01-15821 Filed 6-22-01; 8:45 am]

BILLING CODE 4163-18-P